DEPARTMENT OF AGRICULTURE

Food Safety and Inspection Service

[Docket No. FSIS-2008-0021]

Codex Alimentarius Commission: Meeting of the Codex Committee on Processed Fruits and Vegetables

AGENCY: Office of the Under Secretary for Food Safety, USDA.

ACTION: Notice of public meeting and request for comments.

SUMMARY: The Office of the Under Secretary for Food Safety, U.S. Department of Agriculture (USDA), and the Agricultural Marketing Service (AMS) are hosting a public meeting on August 14th, 2008. The objective of the public meeting is to provide information and receive public comments on agenda items and draft United States positions for the 24th Session of the Codex Committee on Processed Fruits and Vegetables (CCPFV), which will be held in Arlington, VA (Washington, DC, metro area), September 15-20, 2008. The Under Secretary for Food Safety and AMS recognize the importance of providing interested parties the opportunity to obtain background information on this forthcoming Session of CCPFV and to address items on the agenda.

DATES: The public meeting is scheduled for Thursday, August 14, 2008, from 10 a.m. to 12 noon.

ADDRESSES: The public meeting will be held in Room 2068, USDA, South Agriculture Building, 1400 Independence Avenue, SW., Washington, DC. Documents related to the 24th Session of CCPFV will be accessible via the World Wide Web at the following address: http://www.codexalimentarius.net/current.asp.

The U.S. Delegate to the 24th Session of the CCPFV, Dorian LaFond, AMS, invites interested parties to submit their comments electronically to the following e-mail address dorian.lafond@usda.gov.

For Further Information About the 24th Session of CCPFV Contact: Dorian LaFond, International Standards Coordinator, Fruit and Vegetable Division, Agricultural Marketing Service, USDA, 1400 Independence Avenue, SW., Washington, DC 20250, Phone: (202) 690-4944, Fax: (202) 720-0016, e-mail: dorian.lafond@usda.gov.

For Further Information About the Public Meeting Contact: Doreen Chen-Moulec, International Issues Analyst, U.S. Codex Office, USDA, FSIS, Room 4861, South Building, 1400 Independence Avenue, SW., Washington, DC 20250, Phone: (202) 205-7760, Fax: (202) 720-3157. E-mail: Doreen.chen-moulec@fsis.usda.gov.

SUPPLEMENTARY INFORMATION:

Background

The Codex Alimentarius (Codex) was established in 1963 by two United Nations organizations, the Food and Agriculture Organization and the World Health Organization. Through adoption of food standards, codes of practice, and other guidelines developed by its committees and by promoting their adoption and implementation by governments, Codex seeks to protect the health of consumers and ensure that fair practices are used in trade.

The Codex Committee on Processed Fruits and Vegetables is hosted by the United States. It elaborates new and revised worldwide standards for various processed fruits and vegetables, including certain dried and canned products. This committee does not cover standards for fruit and vegetable juices.

Issues To Be Discussed at the Public Meeting

The following items on the Agenda for the 24th Session of CCPFV will be discussed during the public meeting:

• Matters Referred to the Committee From Other Codex Bodies;

• Proposed Layout for Codex Standards for Processed Fruits and Vegetables;

• Draft Codex Standards for Jams, Jellies and Marmalades;

• Draft Codex Standard for Certain Canned Vegetables (General Provisions);

• Proposed Draft Annexes Specific to Certain Canned Vegetables (Draft Codex Standard for Certain Canned Vegetables);

• Proposed Draft Guidelines for Packing Media on Canned Vegetables;

• Proposed Draft Sampling Plans, including Methodological Provisions for Controlling Minimum Drained Weight of Canned Fruits and Vegetables in Packing Media;

• Proposals for Amendments to the Priority List for the Standardization of Processed Fruits and Vegetables;

• Methods of Analysis for Processed Fruits and Vegetables; and

• Food Additive Provisions for Processed Fruits and Vegetables.

Each issue listed will be fully described in documents distributed, or to be distributed, by the Secretariat prior to the Meeting. Members of the public may access or request copies of these documents (see ADDRESSES).

Public Meeting

At the August 14th, 2008 public meeting, draft U.S. positions on the agenda items will be described and discussed, and attendees will have the opportunity to pose questions and offer comments. Written comments may be offered at the meeting or sent to the U.S. Delegate for the 24th Session of CCPFV, Dorian LaFond (see For Further Information About the 24th Session of the CCPFV Contact). Written comments should state that they relate to activities of the 24th Session of the CCPFV.

Additional Public Notification

Public awareness of all segments of rulemaking and policy development is important. Consequently, in an effort to ensure that minorities, women, and persons with disabilities are aware of this notice, FSIS will announce it on-line through the FSIS Web page located at http://www.fsis.usda.gov/regulations/2008_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade groups, consumer interest groups, health professionals, and other individuals who have asked to be included. The update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and they have the option to password protect their accounts.

Done at Washington, DC, on July 23, 2008.
Paulo Almeida,
Acting U.S. Manager for Codex Alimentarius.

[FR Doc. E8-17257 Filed 7-28-08; 8:45 am]

BILLING CODE 3410-DM-P